DEPARTMENT OF LABOR

Employment and Training Administration

[TA-W-37, 314]

Shell Chemical Company, Point Pleasant Polyester Plant, Apple Grove, West Virginia; Dismissal of Application for Reconsideration

Pursuant to 29 CFR 90.18(C) an application for administrative reconsideration was filed with the Director of the Division of Trade Adjustment Assistance for workers at Shell Chemical Company, Point Pleasant Polyester Plant, Apple Grove, West Virginia. The application contained no new substantial information which would bear importantly on the Department's determination. Therefore, dismissal of the application was issued.

TA-W-37, 314; Shell Chemical Company, Point Pleasant Polyester Plant, Apple Grove, West Virginia (June 12, 2000).

Signed at Washington, DC this 12th day of June, 2000.
Grant D. Beale,
Program Manager, Division of Trade Adjustment Assistance.

[FR Doc. 00-16502 Filed 6-28-00; 8:45 am]

BILLING CODE 4510-30-M